FEDERAL RETIREMENT THRIFT INVESTMENT BOARD

Privacy Act of 1974

AGENCY: Federal Retirement Thrift Investment Board.

ACTION: Notice to alter a system of records.

SUMMARY: The Federal Retirement Thrift Investment Board (Agency) proposes to alter a system of records notice in its existing inventory of record systems subject to the Privacy Act of 1974, (5 U.S.C. 552a), as amended. This proposed change is necessary due to new communication technologies and is required in order to assist the Agency in implementing its Continuity of Operations Plan.

DATES: Effective Date: This proposed action will be effective without further notice on December 4, 2006 unless comments are received which result in a contrary determination.

ADDRESSES: Comments may be sent to Stephen D. Suetterlein, Associate General Counsel, Federal Retirement Thrift Investment Board, 1250 H Street, NW., Washington, DC 20005. The Agency's fax number is (202) 942-1676.

FOR FURTHER INFORMATION CONTACT: Stephen D. Suetterlein on (202) 942-1660.

SUPPLEMENTARY INFORMATION: The Agency's systems of records notices subject to the Privacy Act of 1974, (5 U.S.C. 552a), as amended, have been published in the Federal Register and are available from the address above.

The proposed system reports, as required by 5 U.S.C. 552a(r), of the Privacy Act of 1974, as amended, were submitted to the House Committee on Government Reform, the Senate Committee on Homeland Security and Government Affairs, and the Office of Management and Budget (OMB) pursuant to paragraph 4c of Appendix I to OMB Circular No. A-130, “Federal Agency Responsibilities for Maintaining Records About Individuals,” dated February 8, 1996 (February 20, 1996, 61 FR 6427).

Thomas K. Emswiler,
General Counsel, Federal Retirement Thrift Investment Board.

FRTIB-9

System Name:

Employee Locator Card Files (May 7, 1990, 55 FR 18949-01).

Changes:

* * * * *

System name:

Delete entry and replace with “Organization Management and Locator System.”

System location:

Delete entry and replace with: “Federal Retirement Thrift Investment Board, 1250 H Street, NW., Washington DC 20005.”

Categories of individuals covered by the system:

Delete entry and replace with: “Civilian and contractor personnel working for the Agency; former employees; applicants for civilian employment, volunteers, and individuals designated as emergency points of contact.”

Categories of records in the system:

Delete entry and replace with: “This system contains information regarding the organizational location, telephone extension, and e-mail address of individual Agency employees and contractors. The system also contains the home address, telephone number, cell phone number, and e-mail address of the individual, and the name, address, and telephone number of an individual to contact in the event of a medical or other emergency involving the employee.”

Authority for maintenance of the system:

* * * * *

Purpose(s):

Delete the entry and replace with: “Information is used to prepare organizational charts and directories, recall rosters, emergency notification rosters, and social rosters; notify personnel of arrival of visitors; locate individuals on routine and/or emergency matters; locate individuals during medical emergencies, facility evacuations and similar threat situations; provide mail distribution and forwarding addresses; compile a social roster for official and non-official functions; send personal greetings and invitations; and, similar administrative uses requiring personnel data.”

Routine uses of records maintained in the system, including categories of users and the purposes of such uses:

Delete the entry and replace with:

“In addition to those disclosures generally permitted under 5 U.S.C. 552a(b) of the Privacy Act, these records or information contained therein may specifically be disclosed outside the Agency as a routine use pursuant to 5 U.S.C. 552a(b)(b)(3) as follows:

a. By the Agency in the production of summary descriptive statistics and analytical studies in support of the function for which the records are collected and maintained, or for related work force studies. While published statistics and studies do not contain individual identifiers, in some instances the selection of the elements of data included in the study may be structured in such a way as to make the data individually identifiable by inference.

b. To disclose, in response to a request for discovery or for appearance of a witness, information that is relevant to the subject matter involved in a pending judicial or administrative proceeding.”

Policies and practices for storing, retrieving, accessing, retaining, and disposing of records in the system:

Delete entry and replace with:

“Storage: Electronic data bases and paper records.

Retrievability: Records are retrieved by the name of the individual on whom they are maintained.

Safeguards: Records are maintained in secured areas and electronic systems and are available only to authorized personnel whose duties require access.

Retention and disposal: Records are maintained as long as the individual is an employee or contractor for the Agency. Expired records are destroyed by burning or shredding or purging from the Agency's electronic record keeping systems.”

System manager and address:

Delete the entry and replace with: “Office directors maintain records pertaining to that director's employees or contractor personnel. The Director, Automated Systems, maintains the Agency's electronic emergency notification roster. The Chief Financial Officer maintains all other records in FRTIB-9. Any of these individuals may be contacted in writing at 1250 H Street, NW., Washington, DC 20005.”

Notification procedure:

Delete the entry and replace with: “Individuals seeking to determine whether this system of records contains information about themselves should address written inquiries to their Office Director; the Director, Automated Systems; or the Chief Financial Officer at Federal Retirement Thrift Investment Board, 1250 H Street, NW., Washington, DC 20005. Individuals must supply their full name for their records to be located and identified.”

Record access procedures:

Delete the entry and replace with: “Individuals wishing to request access to records about them should contact the Office Director; Director, Automated Systems; or Chief Financial Officer. Individuals must supply their full name for their records to be located and identified.”

Contesting record procedures:

Delete the entry and replace with: “Individuals wishing to request amendment of their records under the provisions of the Privacy Act should contact the respective system manager. Individuals must furnish full name for their records to be located and identified.”

Record source categories:

* * * * *

Systems exempted from certain provisions of the act:

* * * * *

[FR Doc. E6-18546 Filed 11-2-06; 8:45 am]

BILLING CODE 6760-01-P